FEDERAL COMMUNICATIONS COMMISSION

47 CFR Part 73

[MM Docket No. 98-203; FCC 01-306]

Ancillary or Supplementary Use of Digital Television Capacity by Noncommercial Licensees

AGENCY: Federal Communications Commission.

ACTION: Final rule; announcement of effective date.

SUMMARY: The Federal Communications Commission adopted rules concerning the provision of ancillary and supplementary services by noncommercial educational television licensees. The changes to the rules require Office of Management and Budget (OMB) approval to become effective. This document announces that the Commission has received OMB approval for these rules.

DATES: The changes to the rules published on November 26, 2001, 66 FR 58982, amending 47 CFR 73.624(g)(2)(i) are effective January 24, 2008.

FOR FURTHER INFORMATION CONTACT: For information on this proceeding, contact Kim Matthews, kim.matthews@fcc.gov, (202) 418-2154, of the Federal Communications Commission, Media Bureau. Questions concerning the OMB control number should be directed to Cathy Williams, Federal Communications Commission, (202) 418-2918, cathy.williams@fcc.gov.

SUPPLEMENTARY INFORMATION: The Federal Communications Commission has received OMB approval for the rule changes published at 66 FR 58982, November 26, 2001. Through this document, the Commission announces that it received this approval on July 7, 2003.

In a Report and Order, released on October 17, 2001, and published in the Federal Register on November 26, 2001, 66 FR 58982, the Federal Communications Commission adopted rules that contained information collection requirements subject to the Paperwork Reduction Act. On July 7, 2003, the Office of Management and Budget approved the information collection requirements contained in 47 CFR 73.624(g)(2)(i). This information collection is assigned OMB Control Number 3060-0906. This publication satisfies the requirement that the Commission publish a document announcing the effective date of the rule changes requiring OMB approval.

Federal Communications Commission.
Marlene H. Dortch,
Secretary.

[FR Doc. E8-1163 Filed 1-23-08; 8:45 am]

BILLING CODE 6712-01-P